DEPARTMENT OF TRANSPORTATION

Federal Transit Administration

Notice of Meeting of Transit Advisory Committee for Safety

AGENCY: Federal Transit Administration, DOT.

ACTION: Notice of meeting.

SUMMARY: The Federal Transit Administration (FTA) announces a public meeting of the Transit Advisory Committee for Safety (TRACS). TRACS is a discretionary Federal Advisory Committee established by the U.S. Secretary of Transportation (Secretary) in accordance with the Federal Advisory Committee Act to provide information, advice and recommendations to the Secretary and FTA Administrator on matters relating to the safety of public transportation systems.

DATES: The TRACS meeting will be held on March 26, 2019, 9:00 a.m. to 4:00 p.m., and March 27, 2019, 9:00 a.m. to 12:00 p.m.

ADDRESSES: The meeting will be held at the National Highway Institute, 1310 North Courthouse Road, Arlington, Virginia 22201.

FOR FURTHER INFORMATION CONTACT: Henrika Buchanan, TRACS Designated Federal Officer, Acting Associate Administrator, FTA Office of Transit Safety and Oversight, (202) 366-1783; or Kara Waldrup, FTA Office of Transit Safety and Oversight, (202) 366-7273.

SUPPLEMENTARY INFORMATION: This notice is provided in accordance with the Federal Advisory Committee Act (Pub. L. 92-463, 5 U.S.C. App. 2). TRACS is composed of 15 members representing a broad base of expertise necessary to discharge its responsibilities. Please see the TRACS website for additional information at https://www.transit.dot.gov/regulations-and-guidance/safety/transit-advisory-committee-safety-tracs. A conference line will be available during the meeting and the number to dial-in will be posted to the TRACS website. The tentative agenda for the March 2019 TRACS meeting is set forth below:

Agenda

(1) Welcome Remarks/Introductions

(2) Facility Use/Safety Briefing

(3) Review of TRACS Task and Work Plan

(4) Nominations for Chairperson, Vice-Chairperson, and other Volunteer Positions

(5) Future TRACS Activities

(6) Public Comments

(7) Summary of Deliverables/Concluding Remarks

Public Participation

This meeting will be open to the public. Members of the public who wish to attend are asked to send an email to kara.waldrup@dot.gov, in order to be added to the meeting location's visitor list. Attendees who are on the visitors list may access the building by presenting a current state-issued driver's license, state-issued identification card, or other valid photo identification issued by the Federal government. Members of the public wishing to make an oral statement, participate by phone, or seeking alternative formats or services because of a disability at the meeting must contact Kara Waldrup by close of business on March 22, 2019. Members of the public may submit written comments or suggestions concerning the activities of TRACS at any time before or after the meeting at TRACS@dot.gov, or to the U.S. Department of Transportation, Federal Transit Administration, Office of Transit Safety and Oversight, Room E45-131, 1200 New Jersey Avenue SE, Washington, DC 20590. Attention: Kara Waldrup. Information from the meeting will be posted on FTA's public website at https://www.transit.dot.gov/regulations-and-guidance/safety/transit-safety-oversight-tso. Written comments submitted to TRACS will also be posted at the above web address.

Issued in Washington, DC.
K. Jane Williams,
Acting Administrator.

[FR Doc. 2019-04112 Filed 3-6-19; 8:45 am]

BILLING CODE P